FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 18, 2010.

A. Federal Reserve Bank of Cleveland (Nadine Wallman, Vice President) 1455 East Sixth Street, Cleveland, Ohio 44101-2566:

1. Jeffrey J. Woda , Powell, Ohio, and David Cooper, Jr., New Albany, Ohio; acting in concert, to acquire voting shares of Benchmark Bancorp, and thereby indirectly acquire voting shares of Benchmark Bank, both of Gahanna, Ohio.

B. Federal Reserve Bank of St. Louis (Glenda Wilson, Community Affairs Officer) P.O. Box 442, St. Louis, Missouri 63166-2034:

1. Dana A. Bode, Mound City, Illinois, individually, and as a member of the Bode Family Control Group, which consists of Dana A. Bode, Carl E. Bode, the Dana A Bode Trust U/A 01/26/07 with Dana A. Bode and Carl E. Bode as trustees; the Allison L. Bode Trust U/A 10/29/02 with Dana A. Bode as trustee; the William M. Bode Trust U/A 10/29/02 with Dana A. Bode as trustee; the Carl E. Bode Trust U/A 1/26/07 with Carl E. Bode and Dana A. Bode, as trustees; and the Bode Retirement Trust U/A 1/01/85 with Carl E. Bode as trustee; acting in concert, to retain control of FSBO Holdings, Inc., and thereby indirectly retian control of First State Bank of Olmstead, both of Olmsted, Illinois.

Board of Governors of the Federal Reserve System, February 26, 2010.
Jennifer J. Johnson,
Secretary of the Board.

[FR Doc. 2010-4361 Filed 3-2-10; 8:45 am]

BILLING CODE 6210-01-S